INTERNATIONAL TRADE COMMISSION

[USITC SE-13-011]

Sunshine Act Meetings

AGENCY HOLDING THE MEETING: United States International Trade Commission.

TIME AND DATE: June 7, 2013 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 731-TA-1207-1209 (Preliminary)(Prestressed Concrete Steel Rail Tie Wire from China, Mexico, and Thailand). The Commission is currently scheduled to transmit its determinations to the Secretary of Commerce on or before June 7, 2013; Commissioners' opinions are currently scheduled to be transmitted to the Secretary of Commerce on or before June 14, 2013.

5. Outstanding action jackets: none

In accordance with Commission policy, subject matter listed above, not disposed of at the scheduled meeting, may be carried over to the agenda of the following meeting.

Issued: May 30, 2013.
By order of the Commission.
William R. Bishop,
Supervisory Hearings and Information Officer.

[FR Doc. 2013-13161 Filed 5-30-13; 4:15 pm]

BILLING CODE 7020-02-P